DEPARTMENT OF COMMERCE

[A-570-848]

International Trade Administration

Freshwater Crawfish Tail Meat From the People's Republic of China: Postponement of Time Limits for Preliminary Results of New Shipper Antidumping Reviews

AGENCY: Import Administration, International Trade Administration, Department of Commerce.

ACTION: Notice of Postponement of Time Limits for Preliminary Results of New Shipper Antidumping Duty Reviews.

EFFECTIVE DATE: August 8, 2000.

FOR FURTHER INFORMATION CONTACT: Thomas Gilgunn or Maureen Flannery, Import Administration, International Trade Administration, U.S. Department of Commerce, 14th Street and Constitution Avenue, NW., Washington, D.C. 20230; telephone: (202) 482-0648 and (202) 482-3020, respectively.

The Applicable Statute

Unless otherwise indicated, all citations to the Tariff Act of 1930, as amended (the Act) are to the provisions effective January 1, 1995, the effective date of the amendments made to the Act by the Uruguay Round Agreements Act. In addition, unless otherwise indicated, all citations to the Department's regulations are to 19 CFR part 351 (1999).

Background

On September 19, 1999 and September 30, 1999 the Department of Commerce (the Department) received timely requests from Yixing Ban Chang Foods Co., Ltd. (Yixing), Fujian Pelagic Fishery Group Company (Fujian Pelagic), Yangzhou Lakebest Foods Co., Ltd. (Yangzhou Lakebest), Suqian Foreign Trade Co., Ltd. (Suqian), Qingdao Zhengri Seafood Co., Ltd. (Qingdao Zhengri), and Shantou SEZ Yangfeng Marine Products Company (Shantou Yangfeng) to conduct new shipper reviews of the antidumping duty order on freshwater crawfish tail meat from the People's Republic of China (PRC). On November 15, 1999 (64 FR 61833), the Department initiated these new-shipper antidumping reviews covering the period September 1, 1998 through August 31, 1999. On February 25, 2000, Yixing withdrew its request for a new shipper review.

Postponement of New Shipper Review

On May 22, 2000 and May 24, 2000, Fujian Pelagic, Qingdao Zhengri, Shantou Yangfeng, Suqian, and Yangzhou Lakebest, in accordance with 19 CFR 351.214(j)(3), agreed to waive the applicable new shipper time limits to their new shipper reviews so that the Department might conduct their new shipper reviews concurrently with the 1998/99 administrative review of crawfish tail meat from the PRC. Therefore, pursuant to respondents' request and in accordance with the Departments's regulations, we are conducting these reviews concurrently with the 1998/99 administrative review of freshwater crawfish tail meat from the PRC. As a result, the date of preliminary antidumping duty results in these new shipper reviews is September 29, 2000.

This notice is published in accordance with Section 751(a)(2)(B) of the Act and 19 CFR 351.214(j)(3).

Dated: August 2, 2000.
Richard O. Weible,
Acting Deputy Assistant Secretary for AD/CVD Enforcement III.

[FR Doc. 00-20032 Filed 8-7-00; 8:45 am]

BILLING CODE 3510-DS-P